DEPARTMENT OF TRANSPORTATION

Federal Aviation Administration

14 CFR Part 39

[Docket No. 2003-CE-10-AD; Amendment 39-13205; AD 2003-13-05]

RIN 2120-AA64

Airworthiness Directives; Iniziative Industriali Italiane S.p.A. Models Sky Arrow 650 TC and 650 TCN Airplanes

AGENCY: Federal Aviation Administration, DOT.

ACTION: Final rule.

SUMMARY: This amendment adopts a new airworthiness directive (AD) that applies to all Iniziative Industriali Italiane S.p.A. (3I) Models Sky Arrow 650 TC and 650 TCN airplanes. This AD requires you to repetitively inspect the engine mount for cracks and modify or replace the engine mount if cracks are found. This AD is the result of mandatory continuing airworthiness information (MCAI) issued by the airworthiness authority for Italy. The actions specified by this AD are intended to detect and correct cracks in the engine mount, which could result in failure of the engine mount. Such failure could lead to separation of the engine from the airplane.

DATES: This AD becomes effective on August 11, 2003.

The Director of the Federal Register approved the incorporation by reference of certain publications listed in the regulations as of August 11, 2003.

ADDRESSES: You may get the service information referenced in this AD from Iniziative Industriali Italiane S.p.A., Corso Trieste, n. 150, 00198 Rome, Italy; telephone: 06 84.15.821; facsimile: 06 855.71.62. You may view this information at the Federal Aviation Administration (FAA), Central Region, Office of the Regional Counsel, Attention: Rules Docket No. 2003-CE-10-AD, 901 Locust, Room 506, Kansas City, Missouri 64106; or at the Office of the Federal Register, 800 North Capitol Street, NW, suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Ente Nazionale per l'Aviazione Civile (ENAC), which is the airworthiness authority for Italy, recently notified FAA that an unsafe condition may exist on all Iniziative Industriali Italiane S.p.A. (3I) Models Sky Arrow 650 TC and 650 TCN airplanes. The ENAC reports that data collected on in-service airplanes shows that cracks have been detected on the engine mount of several airplanes with high operating time on grass airfields and at flight schools where activity of hard landings have occurred.

What Is the Potential Impact if FAA Took No Action?

This condition, if not detected and corrected, could result in failure of the engine mount. Such failure could lead to separation of the engine from the airplane.

Has FAA Taken Any Action to This Point?

We issued a proposal to amend part 39 of the Federal Aviation Regulations (14 CFR part 39) to include an AD that would apply to all Iniziative Industriali Italiane S.p.A. (3I) Models Sky Arrow 650 TC and 650 TCN airplanes. This proposal was published in the Federal Register as a notice of proposed rulemaking (NPRM) on April 3, 2003 (68 FR 16222). The NPRM proposed to require you to repetitively inspect the engine mount for cracks and modify or replace the engine mount if cracks are found.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

What Are the Differences Between This AD, the ENAC AD, and the Service Information?

The ENAC AD and the service information requires (on Italian-registered airplanes) inspection within the next 10 hours time-in-service (TIS) after the effective date of the AD. We require that you inspect within the next 50 hours TIS after the effective date of this AD. We do not have justification to require this action within the next 10 hours TIS.

We use compliance times such as 10 hours TIS when we have identified an urgent safety of flight situation. We believe that 50 hours TIS will give the owners or operators of the affected airplanes enough time to have these actions accomplished without compromising the safety of the airplanes.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Does This AD Impact?

We estimate that this AD affects 10 airplanes in the U.S. registry.

What Is the Cost Impact of This AD on Owners/Operators of the Affected Airplanes?

We estimate the following costs to accomplish the inspection:

Labor cost | Parts cost | Total cost per airplane | Total cost on U.S. operators
1 workhour × $60 = $60 | No parts required | $60 | $60 × 10 = $600

We estimate the following costs to accomplish the necessary modification:

Labor cost | Parts cost | Total cost per airplane
14 workhours × $60 = $840 | $100 | $940

We estimate the following costs to accomplish any necessary replacements that will be required based on the results of the inspection. We have no way of determining the number of airplanes that may need such replacement:

Labor cost | Parts cost | Total cost per airplane
1 workhours × $60 = $660. | $500 | $1,160

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-13-05 Iniziative Industriali Italiane S.p.A.: Amendment 39-13205; Docket No. 2003-CE-10-AD.

(a) What airplanes are affected by this AD? This AD affects Models Sky Arrow 650 TC and 650 TCN airplanes, all serial numbers, that are certificated in any category.

(b) Who must comply with this AD? Anyone who wishes to operate any of the airplanes identified in paragraph (a) of this AD must comply with this AD.

(c) What problem does this AD address? The actions specified by this AD are intended to detect and correct cracks in the engine mount, which could result in failure of the engine mount. Such failure could lead to separation of the engine from the airplane.

(d) What actions must I accomplish to address this problem? To address this problem, you must accomplish the following:

Actions | Compliance | Procedures
(1) Inspect the engine mount for cracks | Initially inspect within the next 50 hours time-in-service (TIS) after August 11, 2003 (the effective date of this AD). Repetitively inspect thereafter at intervals not to exceed 100 hours TIS until the modification or replacement specified in paragraph (d)(2) or (d)(3) of this AD is incorporated | In accordance with the engine Iniziative Industriali Italiane S.p.A. 3i Service Bulletin SB-C No. 01/02, dated October 15, 2002.
(2) If cracks are found during any inspection required in paragraph (d)(1) of this AD and the cracks are 20 millimeters (mm) or less in size, modify the engine mount | Prior to further flight after the inspection in which the cracks are found. Incorporating the manufacturer's modification kit terminates the repetitive inspection requirements of this AD | In accordance with Iniziative Industriali Italiane S.p.A. 3i Service Bulletin SB-C No. 01/02, dated October 15, 2002.
(3) If cracks are found during the inspection required in paragraph (d)(1) of this AD and the cracks are more than 20 millimeters in length, the engine mount must be replaced with a new, already modified engine mount | Prior to further flight after the inspection in which the cracks are found. Replacing the engine mount with a new, already modified engine mount terminates the repetitive inspection requirements of this AD | In accordance with Iniziative Industriali Italiane S.p.A. 3i Service Bulletin SB-C No. 01/02, dated October 15, 2002.
(4) After any inspection required in paragraph (d)(1) of this AD, and no cracks are found, you may incorporate the modification or install a new, already modified engine mount as referenced in paragraph (d)(2) and (d)(3) of this AD. This modification terminates the repetitive inspection requirements of this AD | N/A | In accordance with Iniziative Industriali Italiane S.p.A. 3i Bulletin SB-C No. 01/02, dated October 15, 2002.
(5) Do not install any engine mount unless it has been modified as specified in paragraph (d)(2) of this AD | As of August 11, 2003 (the effective date of this AD) | Not applicable.

(e) Can I comply with this AD in any other way? To use an alternative method of compliance or adjust the compliance time, use the procedures in 14 CFR 39.19. Send these requests to the Manager, Standards Office, Small Airplane Directorate. For information on any already approved alternative methods of compliance, contact Doug Rudolph, Aerospace Engineer, FAA, Small Airplane Directorate, 901 Locust, Room 301, Kansas City, Missouri 64106; telephone: (816) 329-4059; facsimile: (816) 329-4090.

(f) Are any service bulletins incorporated into this AD by reference? Actions required by this AD must be done in accordance with Iniziative Industriali Italiane S.p.A. 3i Service Bulletin SB-C No. 01/02, dated October 15, 2002. The Director of the Federal Register approved this incorporation by reference under 5 U.S.C. 552(a) and 1 CFR part 51. You may get copies from Iniziative Industriali Italiane S.p.A., Corso Trieste, n. 150, 00198 Rome, Italy; telephone: 06 84.15.821; facsimile: 06 855.71.62. You may view copies at the FAA, Central Region, Office of the Regional Counsel, 901 Locust, Room 506, Kansas City, Missouri, or at the Office of the Federal Register, 800 North Capitol Street, NW., Suite 700, Washington, DC.

Note: The subject of this AD is addressed in Italian AD Number 2002-590, dated November 29, 2002.

(g) When does this amendment become effective? This amendment becomes effective on August 11, 2003.

Issued in Kansas City, Missouri, on June 17, 2003.
James E. Jackson,
Acting Manager, Small Airplane Directorate, Aircraft Certification Service.

[FR Doc. 03-15724 Filed 6-23-03; 8:45 am]

BILLING CODE 4910-13-P